COMMISSION ON CIVIL RIGHTS

Sunshine Act Meeting

AGENCY: U.S. Commission on Civil Rights.

DATE AND TIME: Friday, December 8, 2000, 9:30 a.m.

PLACE: U.S. Commission on Civil Rights, 624 Ninth Street, N.W., Room 540, Washington, DC 20425.

STATUS:

Agenda

I. Approval of Agenda

II. Approval of Minute of November 3, 2000 Meeting

III. Announcements

IV. Staff Director's Report

V. Alleged Voting Improprieties During the Presidential Election

VI. Future Agenda Items

11:00 a.m. Briefing on Crossing Borders: An Examination of Civil Rights Issues Raised by Current Immigration Laws, Policies and Practices.

CONTACT PERSON FOR FURTHER INFORMATION: David Aronson, Press and Communications (202) 376-8312.

Edward A. Hailes, Jr.,
Acting General Counsel.

[FR Doc. 00-30760 Filed 11-29-00; 11:18 am]

BILLING CODE 6335-01-M